ENVIRONMENTAL PROTECTION AGENCY

[FRL-8559-2]

Notice of Proposed Administrative Settlement Pursuant to the Comprehensive Environmental Response, Compensation, and Liability Act

AGENCY: Environmental Protection Agency.

ACTION: Notice; request for public comment.

SUMMARY: In accordance with Section 122(h)(1) of the Comprehensive Environmental Response, Compensation, and Liability Act, as amended (“CERCLA”), 42 U.S.C. 9622(h)(1), notice is hereby given of a proposed administrative settlement concerning the Webster-Gulf Nuclear Superfund Site, Gulf Nuclear Superfund Site, and the Tavenor-Gulf Nuclear Superfund Site, collectively known as the Gulf Nuclear Superfund Site (the Sites). The Sites are located in Webster, Harris County, Texas; Odessa, Ector County, Texas; and Houston, Harris County, Texas.

The Settling Party, the Texas Department of State Health Services (DSHS) has provided to EPA In-Kind Services valued at $124,592.40. A $102,000 portion of the value of the In-Kind Services already provided shall be valued as consideration in the Settlement Agreement. The remaining In-Kind Services value of $22,592.40 will be available to the Settling Party to use as credit for any expenditure of costs at the Sites that go beyond EPA's estimated response costs of $29,864,194.82. The purpose of this Agreement is to settle the claims for past costs incurred by EPA against DSHS, a potentially responsible party (PRP) who arranged for the disposal or treatment of hazardous substances at the Sites. The settlement includes a covenant not to sue which includes, but is not limited to: (1) Any direct or indirect claim for reimbursement from the EPA Hazardous Substance Superfund pursuant to Sections 106(b)(2), 107, 111, 112, or 113 of CERCLA, 42 U.S.C. 9606(b)(2), 9607, 9611, 9612, or 9613; (2) any claims arising out of the response actions at or in connection with the Sites; and (3) any claims against the United States pursuant to Sections 107 and 113 of CERCLA, 42 U.S.C. 9607 and 9613, relating to the Sites.

For thirty (30) days following the date of publication of this notice, the Agency will receive written comments relating to the settlement. The Agency will consider all comments received and may modify or withdraw its consent to the settlement if comments received disclose facts or considerations which indicate that the settlement is inappropriate, improper, or inadequate. The Agency's response to any comments received will be available for public inspection at 1445 Ross Avenue, Dallas, Texas 75202-2733.

DATES: Comments must be submitted on or before May 28, 2008.

ADDRESSES: The proposed settlement and additional background information relating to the settlement are available for public inspection at 1445 Ross Avenue, Dallas, Texas 75202-2733. A copy of the proposed settlement may be obtained from Kenneth Talton, 1445 Ross Avenue, Dallas, Texas 75202-2733 at (214) 665-7475. Comments should reference the Webster-Gulf Nuclear Superfund Site, Gulf Nuclear Superfund Site, and the Tavenor-Gulf Nuclear Superfund Site, collectively known as the Gulf Nuclear Superfund Site, Webster and Odessa, Texas, EPA Docket Number 06-01-08 and should be addressed to Kenneth Talton at the address listed above.

FOR FURTHER INFORMATION CONTACT: Amy Salinas, 1445 Ross Avenue, Dallas, Texas 75202-2733 at (214) 665-8063.

Dated: April 18, 2008.
Lawrence E. Starfield,
Deputy Regional Administrator (6RA), Region 6.

[FR Doc. E8-9249 Filed 4-25-08; 8:45 am]

BILLING CODE 6560-50-P